DEPARTMENT OF EDUCATION

Submission for OMB Review; Comment Request

AGENCY: Department of Education.

ACTION: Correction notice.

SUMMARY: On August 19, 2011, the Department of Education published a 60-day public comment period notice in the Federal Register (Page 51960, Column 1) for the information collection, “Consolidated State Performance Report”. The title should be corrected to read “Consolidated State Application”. The total estimated number of responses should read 30 responses. The total estimated number of burden hours should read 2,400 hours. All other information is correct and up to date. The Director, Information Collection Clearance Division, Privacy, Information and Records Management Services, Office of Management, hereby issues a correction notice as required by the Paperwork Reduction Act of 1995.

Dated: August 23, 2011.
Darrin A. King,
Director, Information Collection Clearance Division, Privacy, Information and Records Management Services, Office of Management.

[FR Doc. 2011-21929 Filed 8-25-11; 8:45 am]

BILLING CODE 4000-01-P